Proclamation 9995 of March 13, 2020

National Poison Prevention Week, 2020

By the President of the United States of America

A Proclamation

Far too often, American families bear the burden of preventable tragedies caused by unintentional poisonings. Each day, more than 300 children are treated for poisonings in emergency rooms across the United States. These incidents frequently involve ordinary household items like cleaning products and medicines, including opioids, which are toxic but may be attractive to children because of their bright colors and sweet smells. The responsibility for ensuring that these dangerous products are out of sight and out of reach of our youth falls on all of us. During National Poison Prevention Week, we reaffirm our commitment to raising awareness of the realities of unintentional poisonings and overdoses in our country, and of the ways Americans can educate themselves to avoid accidental injury, overdose, or death in their homes and communities.

Every American has a role to play in preventing accidental poisonings and overdoses. Twice per year, my Administration hosts national drug “Take Back Day” events for Americans to help protect against the accidental ingestion, misuse, or abuse of prescription drugs by turning in expired or unneeded medications to be disposed of safely. Locking up medications after use and asking local pharmacies or police departments for ways to promptly dispose of expired, unwanted, or unused medications properly can also help prevent tragedies from occurring. In the event of an accidental poisoning, quick action could save a life, and expert help is always available through poison control centers. These centers are vital lifelines used by millions of Americans annually, and they serve the public, healthcare providers, public safety personnel, health departments, and law enforcement officials around the clock.

Each day, many American families suffer from the pain caused by an opioid overdose death. My Administration is committed to helping eradicate drug addiction from our society and to preventing drug overdoses, which are now the leading cause of accidental death in the United States. Over the last 3 years, the Department of Health and Human Services has awarded nearly $9 billion in grants to address the opioid crisis and improve access to prevention, treatment, and recovery services. As a part of my Initiative to Stop Opioid Abuse, I announced a plan to decrease the amount of opioid prescription fills by one-third within 3 years. And in October 2018, I signed into law the SUPPORT Act, the largest and most comprehensive piece of legislation to combat the opioid crisis, which expands access to drug-disposal programs and to evidence-based treatment for opioid use disorder. Thanks to our efforts, in 2018, overdose deaths fell nationwide for the first time in decades, and the amount of opioids prescribed nationally since 2017 decreased by 35 percent. Additionally, an increasing number of Americans are receiving life-saving medication-assisted treatment for drug addiction.

No American should perish as a result of unintended exposure to poisons or accidental overdoses. This week, we recommit to taking the critical precautions necessary to prevent the deadly realities of unintentional poisonings and drug overdoses, and we ask all Americans to do their part to raise awareness to help combat these issues.

To encourage Americans to learn more about the dangers of unintentional poisonings and to take appropriate preventative measures, on September 26, 1961, the Congress, by joint resolution (75 Stat. 681), authorized and requested the President to issue a proclamation designating the third week of March each year as “National Poison Prevention Week.”

NOW, THEREFORE, I, DONALD J. TRUMP, President of the United States of America, do hereby proclaim March 15, 2020, through March 21, 2020, to be National Poison Prevention Week. I call upon all Americans to observe this week by taking actions to safeguard their families from poisonous products, chemicals, medicines, and drugs found in their homes, and to raise awareness about these dangers in order to prevent accidental injuries and deaths.

IN WITNESS WHEREOF, I have hereunto set my hand this thirteenth day of March, in the year of our Lord two thousand twenty, and of the Independence of the United States of America the two hundred and forty-fourth.

[FR Doc. 2020-05795

Filed 3-17-20; 8:45 am]

Billing code 3295-F0-P